DEPARTMENT OF TRANSPORTATION

Saint Lawrence Seaway Development Corporation

33 CFR Part 401

[Docket No. SLSDC-2016-0004]

RIN 2135-AA39

Seaway Regulations and Rules: Periodic Update, Various Categories

AGENCY: Saint Lawrence Seaway Development Corporation, DOT.

ACTION: Final rule.

SUMMARY: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is amending the joint regulations by updating the Seaway Regulations and Rules in various categories. The changes will update the following sections of the Regulations and Rules: Condition of Vessels; Seaway Navigation; and, Information and Reports. These amendments are necessary to take account of updated procedures and will enhance the safety of transits through the Seaway. Several of the amendments are merely editorial or for clarification of existing requirements.

DATES: This final rule will be effective on March 21, 2016.

ADDRESSES: Docket: For access to the docket to read background documents or comments received, go to http://www.Regulations.gov; or in person at the Docket Management Facility; U.S. Department of Transportation, 1200 New Jersey Avenue SE., West Building Ground Floor, Room W12-140, Washington, DC 20590-001, between 9 a.m. and 5 p.m., Monday through Friday, except Federal Holidays.

FOR FURTHER INFORMATION CONTACT: Carrie Mann Lavigne, Chief Counsel, Saint Lawrence Seaway Development Corporation, 180 Andrews Street, Massena, New York 13662; 315/764-3200.

SUPPLEMENTARY INFORMATION: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is amending the joint regulations by updating the Regulations and Rules in various categories. The changes will update the following sections of the Regulations and Rules: Condition of Vessels; Seaway Navigation; and, Information and Reports. These updates are necessary to take account of updated procedures which will enhance the safety of transits through the Seaway. Many of these changes are to clarify existing requirements in the regulations. Where new requirements or regulations are made, an explanation for such a change is provided below. A Notice of Proposed Rulemaking was published in the Federal Register on February 5, 2016 (81 FR 6198). No comments were received. The joint regulations will become effective in Canada on March 21, 2016. For consistency, because these are joint regulations under international agreement, and to avoid confusion among users of the Seaway, the SLSDC finds that there is good cause to make the U.S. version of the amendments effective on the same date.

Regulatory Notices: Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.Regulations.gov.

The SLSDC is amending four sections of the Condition of Vessels portion of the joint Seaway regulations. In § 401.10, “Mooring lines”, the two Corporations are permitting vessels not greater than 200 m in overall length to use soft lines instead of wire lines. Over the past 3 years, vessels greater than 150 m in overall length have been permitted to use type approved soft lines on a test basis, with successful results. Based on these same results, the SLSDC is amending § 401.11, “Minimum Requirements—mooring lines and fairleads” to permit the operator of vessels of more than 150 m but not more than 200 m to use either soft or wire lines.

In § 401.13, “Hand lines”, the SLSDC is changing the maximum diameter of hand lines to 18 mm from 17 mm due to the fact that 17 mm lines are no longer available. The change to § 401.17, “Pitch indicators and alarms,” will make a minor administrative change by removing the effective date for the requirement.

In the Seaway Navigation portion of the regulations, the two Corporations are making changes in several sections. Section 401.29, “Maximum draft”, is restructured in order to clarify the requirements for use of an operational Draft Information System. In § 401.37, “Mooring at tie-up walls”, the Seaway Corporations are requiring that crew members handling lines on tie-up walls wear approved personal flotation devices instead of life jackets that can be can be unsafe due to their bulky nature. The SLSDC is changing the requirement in § 401.45, “Emergency procedures”, to make clear that when a vessel is entering the locks too fast in an emergency situation, the vessel will not be required to deploy mooring lines.

In the Information and Reports section, a change to § 401.79, “Advance notice of arrival, vessels requiring inspection” is being made that would require all foreign flagged vessels of 300 GRT or above to submit an electronic Notice of Arrival.

The other changes to the joint regulations are merely editorial or to clarify existing requirements.

Regulatory Evaluation

This regulation involves a foreign affairs function of the United States and therefore Executive Order 12866 does not apply and evaluation under the Department of Transportation's Regulatory Policies and Procedures is not required.

Regulatory Flexibility Act Determination

I certify that this regulation will not have a significant economic impact on a substantial number of small entities. The St. Lawrence Seaway Regulations and Rules primarily relate to commercial users of the Seaway, the vast majority of who are foreign vessel operators. Therefore, any resulting costs will be borne mostly by foreign vessels.

Environmental Impact

This regulation does not require an environmental impact statement under the National Environmental Policy Act (49 U.S.C. 4321, et seq.) because it is not a major federal action significantly affecting the quality of the human environment.

Federalism

The Corporation has analyzed this rule under the principles and criteria in Executive Order 13132, dated August 4, 1999, and have determined that this rule does not have sufficient federalism implications to warrant a Federalism Assessment.

Unfunded Mandates

The Corporation has analyzed this rule under Title II of the Unfunded Mandates Reform Act of 1995 (Pub. L. 104-4, 109 Stat. 48) and determined that it does not impose unfunded mandates on State, local, and tribal governments and the private sector requiring a written statement of economic and regulatory alternatives.

Paperwork Reduction Act

This regulation has been analyzed under the Paperwork Reduction Act of 1995 and does not contain new or modified information collection requirements subject to the Office of Management and Budget review.

List of Subjects in 33 CFR Part 401

Hazardous materials transportation, Navigation (water), Penalties, Radio, Reporting and recordkeeping requirements, Vessels, Waterways.

Accordingly, the Saint Lawrence Seaway Development Corporation is amending 33 CFR part 401, Regulations and Rules, as follows:

PART 401—SEAWAY REGULATIONS AND RULES

Subpart A—Regulations

1. The authority citation for subpart A of part 401 continues to read as follows:

Authority: 33 U.S.C. 983(a) and 984(a)(4), as amended; 49 CFR 1.52, unless otherwise noted.

2. In § 401.10:

a. Revise paragraph (b); and

b. In the table in paragraph (d), revise the fifth entry.

The revisions read as follows:

§ 401.10 Mooring lines.

* * * * *

(b) Unless otherwise permitted by an officer, vessels greater than 200 m shall only use wire mooring lines with a breaking strength that complies with the minimum specifications set out in the table to this section shall be used for securing a vessel in lock chambers.

* * * * *

(d) * * *

Table
Overall length of ships | Length of mooring line | Breaking strength
* * * * * * *
More than 180 m but not more than 225.5 m | 110 m | 35 MT.
* * * * * * *

* * * * *

3. In § 401.12, revise paragraph (a) to read as follows:

§ 401.12 Minimum requirements—mooring lines and fairleads.

(a) Unless otherwise permitted by the officer the minimum requirements in respect to mooring lines which shall be available for securing on either side of the vessel, winches and the location of fairleads on vessels are as follows:

(1) Vessels of 100 m or less in overall length shall have at least three mooring lines—wires or synthetic hawsers, two of which shall be independently power operated and one if synthetic, may be hand held.

(i) One line shall lead forward from the break of the bow and one line shall lead astern from the quarter and be independently power operated by winches, capstans or windlasses and lead through closed chocks or fairleads acceptable to the Manager and the Corporation; and

(ii) One synthetic hawser may be hand held or if wire line is used shall be powered. The line shall lead astern from the break of the bow through a closed chock to suitable bitts on deck for synthetic line or led from a capstan, winch drums or windlass to an approved fairlead for a wire line.

(2) Vessels of more than 100 m but not more than 150 m in overall length shall have three mooring lines—wires or synthetic hawsers, which shall be independently power operated by winches, capstans or windlasses.

(i) All lines shall be led through closed chocks or fairleads acceptable to the Manager and the Corporation.

(ii) One mooring line shall lead forward and one shall lead astern from the break of the bow and one mooring line shall lead astern from the quarter.

(3) Vessels of more than 150 m but not more than 200 m in overall length shall have four mooring lines, wires or synthetic hawsers, which shall be independently power operated by winches.

(i) One mooring line shall lead forward and one mooring line shall lead astern from the break of the bow.

(ii) One mooring line shall lead forward and one mooring line shall lead astern from the quarter.

(iii) All lines shall be led through a type of fairlead acceptable to the Manager and the Corporation.

(4) Vessels of more than 200 m in overall length shall have four mooring lines—wires, independently power operated by the main drums of adequate power operated winches as follows:

(i) One mooring line shall lead forward and one mooring line shall lead astern from the break of the bow.

(ii) One mooring line shall lead forward and one mooring line shall lead astern from the quarter.

(iii) All lines shall be led through a type of fairlead acceptable to the Manager and the Corporation.

(5) Every vessel shall have a minimum of two spare mooring lines available and ready for immediate use.

* * * * *

4. In § 401.13, revise paragraph (b) to read as follows:

§ 401.13 Hand lines.

* * * * *

(b) Be of uniform thickness and have a diameter of not less than 12 mm and not more than 18 mm and a minimum length of 30 m. The ends of the lines shall be back spliced or tapered; and

* * * * *

5. In § 401.17, revise paragraph (b) to read as follows:

§ 401.17 Pitch indicators and alarms.

* * * * *

(b) Visible and audible pitch alarms, with a time delay of not greater than 8 seconds, in the wheelhouse and engineer room to indicate wrong pitch.

* * * * *

6. In § 401.29, revise paragraph (c) and remove paragraphs (d) through (h) to read as follows:

§ 401.29 Maximum draft.

* * * * *

(c) Any vessel will be permitted to load at an increased draft of not more than 7 cm above the maximum permissible draft in effect as prescribed under paragraph (b) of this section if it is equipped with a Draft Information System (DIS) and meets the following:

(1) An operational Draft Information System (DIS) approved by a member of the International Association of Classification Societies (IACS) as compliant with the Implementation Specifications found at www.greatlakes-seaway.com and having on board:

(i) An operational AIS with accuracy = 1 (DGPS); and

(ii) Up-to-date electronic navigational charts; and

(iii) Up-to-date charts containing high resolution bathymetric data; and

(2) The DIS Tool Display shall be located close to the primary conning position, be visible and legible; and equipped with a pilot plug, if using a portable DIS.

(i) Verification document of the DIS must be kept on board the vessel at all times and made available for inspection.

(ii) A company letter attesting to officer training on use of the DIS must be kept on board and made available for inspection.

(iii) In every navigation season, a vessel intending to use the DIS must notify the Manager of the Corporation in writing at least 24 hours prior to the commencement of its initial transit in the System with the DIS.

(iv) If for any reason the DIS or AIS becomes inoperable, malfunctions or is not used while the vessel is transiting at a draft greater than the maximum permissible draft prescribed under paragraph (b) of this section in effect at the time, the vessel must notify the Manager or the Corporation immediately.

7. In § 401.37, revise paragraph (b) to read as follows:

§ 401.37 Mooring at tie-up walls.

* * * * *

(b) Crew members being put ashore on landing booms and handling mooring lines on tie-up walls shall wear approved personal flotation devices.

* * * * *

8. Revise § 401.44 to read as follows:

§ 401.44 Mooring in locks.

(a) Mooring lines shall only be placed on mooring posts as directed by the officer in charge of the mooring operation.

(b) No winch from which a mooring line runs shall be operated until the officer in charge of a mooring operation has signaled that the line has been placed on a mooring post.

(c) Once the mooring lines are on the mooring posts, lines shall be kept slack until the “all clear” signal is given by the lock personnel. When casting off signal is received, mooring lines shall be kept slack until the “all clear” signal is given by the lock personnel.

(d) Vessels being moored by “Hands Free Mooring” system (HFM) shall have a minimum of 2 well rested crew members on deck during the lockage.

9. Revise § 401.45 to read as follows:

§ 401.45 Emergency procedure.

When the speed of a vessel entering a lock chamber has to be checked, the master shall take all necessary precautions to stop the vessel in order to avoid contact with lock structures. At no time shall the vessel deploy its anchors to stop the vessel when entering a lock chamber.

10. Revise § 401.47 to read as follows:

§ 401.47 Leaving a lock.

(a) Mooring lines shall only be cast off as directed by the officer in charge of a mooring operation.

(b) No vessel shall proceed out of a lock until the exit gates, ship arresters and the bridge, if any, are in a fully open position.

(c) When “Hands Free Mooring system (HFM) is used, no vessel shall use its engine(s) until the lock operator provides the “all clear” instruction.

(68 Stat. 93-96, 33 U.S.C. 981-990, as amended and secs. 4, 5, 6, 7, 8, 12 and 13 of sec. 2 of Pub. L. 95-474, 92 Stat. 1471)

11. In § 401.79, revise paragraph (a) introductory text to read as follows:

§ 401.79 Advance notice of arrival, vessels requiring inspection.

(a) Advance notice of arrival. All foreign flagged vessels of 300 GRT or above intending to transit the Seaway shall submit a completed electronic Notice of Arrival (NOA) prior to entering at call in point 2 (CIP2) as follows:

* * * * *

12. In § 401.80, add paragraph (c) to read as follows:

§ 401.80 Reporting dangerous cargo.

* * * * *

(c) Vessels carrying “Certain Dangerous Cargo” (CDC) as defined in the United States Coast Guard regulations 33 CFR 160.202, which is the same as the definition in the Transport Canada “Marine Transportation Security Regulations” (MTSR's), shall report the “Certain Dangerous Cargo” to the nearest Seaway station prior to a Seaway transit.

* * * * *

13. In appendix I to subpart A, revise the Caution statement to read as follows:

Appendix I to Subpart A of Part 401—Vessel Dimensions

* * * * *

Caution: Masters must take into account the ballast draft of the vessel when verifying the maximum permissible dimensions. Bridge wings, antennas, masts and, in some cases, the samson posts or store cranes could be outside the limits of the block diagram and could override the lock wall. Masters and pilots must take this into consideration and exercise extreme caution when entering or exiting locks to ensure that the vessel does not contact any of the structures on the lock.

* * * * *

Issued at Washington, DC, on March 10, 2016.
Saint Lawrence Seaway Development Corporation.
Carrie Lavigne,
Chief Counsel.

[FR Doc. 2016-05798 Filed 3-14-16; 8:45 am]

BILLING CODE 4910-61-P